DEPARTMENT OF HOMELAND SECURITY

Federal Emergency Management Agency

44 CFR Part 67

[Docket ID FEMA-2010-0003; Internal Agency Docket No. FEMA-B-1112]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before August 23, 2010.

ADDRESSES: The corresponding preliminary Flood Insurance Rate Map (FIRM) for the proposed BFEs for each community is available for inspection at the community's map repository. The respective addresses are listed in the table below.

You may submit comments, identified by Docket No. FEMA-B-1112, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Carter County, Kentucky, and Incorporated Areas
Barrett Creek (Backwater from Little Sandy River) | From the confluence with the Little Sandy River to approximately 0.5 mile upstream of Eagle Drive | None | +581 | Unincorporated Areas of Carter County.
Bens Run (Backwater from Tygarts Creek) | From the confluence with Tygarts Creek to approximately 0.6 mile upstream of the confluence with Tygarts Creek | None | +752 | Unincorporated Areas of Carter County.
Big Sinking Creek (Backwater from Little Sandy River) | From the confluence with the Little Sandy River to approximately 0.5 mile upstream of the confluence with the Little Sandy River | None | +610 | Unincorporated Areas of Carter County.
Davy Run (Backwater from Little Fork Little Sandy River) | From the confluence with Little Fork Little Sandy River to approximately 0.6 mile upstream of the confluence with Little Fork Little Sandy River | None | +613 | Unincorporated Areas of Carter County.
Dry Branch (Backwater from Tygarts Creek) | From the confluence with Tygarts Creek to just downstream of U.S. Route 60 | None | +804 | Unincorporated Areas of Carter County.
Fourmile Creek (Backwater from Little Sandy River) | From the confluence with the Little Sandy River to approximately 400 feet upstream of Glory Lane | None | +604 | Unincorporated Areas of Carter County.
Huff Run (Backwater from Little Fork Little Sandy River) | From the confluence with Little Fork Little Sandy River to approximately 0.7 mile upstream of the confluence with Little Fork Little Sandy River | None | +616 | Unincorporated Areas of Carter County.
Johns Run (Backwater from Little Fork Little Sandy River) | From the confluence with Little Fork Little Sandy River to approximately 0.6 mile upstream of the confluence with Little Fork Little Sandy River | None | +623 | Unincorporated Areas of Carter County.
Lost Creek (Backwater from Dry Fork) | From the confluence with Dry Fork to approximately 0.5 mile downstream of Eddie Dean Road | None | +632 | Unincorporated Areas of Carter County.
Straight Creek (Backwater from Little Fork Little Sandy River) | From the confluence with Little Fork Little Sandy River to approximately 1,750 feet downstream of Mount Savage Lane | None | +609 | Unincorporated Areas of Carter County.
Wolf Creek (Backwater from Little Sandy River) | From the confluence with the Little Sandy River to approximately 0.6 mile upstream of the confluence with the Little Sandy River | None | +603 | Unincorporated Areas of Carter County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Carter County
Maps are available for inspection at 300 West Main Street, Grayson, KY 41143.
Butler County, Nebraska, and Incorporated Areas
Platte River | Approximately 100 feet downstream of the Saunders County boundary | None | +1,309 | Unincorporated Areas of Butler County.
| Approximately 575 feet downstream of the Polk County boundary | None | +1,442
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Butler County
Maps are available for inspection at 451 North 5th Street, David City, NE 68632.
Otoe County, Nebraska, and Incorporated Areas
Missouri River | At easternmost tip of the Otoe County limits | +913 | +914 | City of Nebraska City, Unincorporated Areas of Otoe County.
| At Nebraska Highway 2/Burlington Northern Railroad | +930 | +931
| At Everett Lane extended | +940 | +943
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Nebraska City
Maps are available for inspection at 1409 Central Avenue, Nebraska City, NE 68410.
Unincorporated Areas of Otoe County
Maps are available for inspection at the Otoe County Courthouse, 1021 Central Avenue, Nebraska City, NE 68410.
Rio Arriba County, New Mexico, and Incorporated Areas
Llano Ditch Tributary | Just downstream of McCurdy Road Northwest | None | +5,655 | Unincorporated Areas of Rio Arriba County, Pueblo of Ohkay Owingeh.
| Just upstream of Simmons Lane | None | +5,705
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Pueblo of Ohkay Owingeh
Maps are available for inspection at the Governor's Office, 1 Kee Road, Espanola, NM 87532.
Unincorporated Areas of Rio Arriba County
Maps are available for inspection at the County Clerk's Office, 1122 Industrial Park Road, Espanola, NM 87532.
Wake County, North Carolina, and Incorporated Areas
Basin 10, Stream 13 | At the confluence with Basin 10, Stream 14 | +277 | +276 | Unincorporated Areas of Wake County.
| Approximately 1,400 feet upstream of the confluence with Basin 10, Stream 14 | +277 | +276
Basin 10, Stream 14 | Approximately 0.5 mile upstream of the confluence with the Little River | +269 | +268 | Unincorporated Areas of Wake County.
| At the Wake County boundary | +306 | +307
Horse Creek Tributary 1 | At the downstream side of Keighley Forest Drive | None | +341 | Unincorporated Areas of Wake County.
| Approximately 850 feet upstream of Keighley Forest Drive | None | +345
Richland Creek | Approximately 850 feet upstream of the confluence with Richland Creek Tributary 2 | +302 | +301 | Town of Wake Forest.
| Approximately 500 feet downstream of the confluence with Hattles Branch | +312 | +315
Richland Creek Tributary 2 | Approximately 750 feet upstream of the confluence with Richland Creek | None | +301 | Town of Wake Forest.
| Approximately 0.4 mile upstream of the confluence with Richland Creek | None | +317
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Wake Forest
Maps are available for inspection at the Planning Department, 401 Elm Street, Wake Forest, NC 27587.
Unincorporated Areas of Wake County
Maps are available for inspection at the Wake County Office Building, Environmental Services, 1st Floor, 337 Salisbury Street, Raleigh, NC 27601.
Wagoner County, Oklahoma, and Incorporated Areas
Adams Creek | Approximately 717 feet downstream of the confluence with School Creek | None | +600 | Town of Fair Oaks.
| Approximately 0.61 mile upstream of the confluence with School Creek | None | +605
Salt Creek | Approximately 0.60 mile downstream of 305th Avenue | None | +557 | Town of Fair Oaks.
| Approximately 365 feet upstream of 257th Avenue | None | +607
Verdigris River | Approximately 245 feet downstream of 72nd Street | None | +516 | Town of Okay.
| Approximately 0.45 mile upstream of 72nd Street | None | +516
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Fair Oaks
Maps are available for inspection at the Office of the County Commissioner, 219 South Missouri Street, Claremore, OK 74017.
Town of Okay
Maps are available for inspection at the Office of the County Commissioner, 306 East Cherokee Street, Wagoner, OK 74107.
Erath County, Texas, and Incorporated Areas
North Bosque River | Just upstream of East Lingleville Road | None | +1,265 | Unincorporated Areas of Erath County.
| Approximately 0.5 mile upstream of State Highway 108 | None | +1,276
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Erath County
Maps are available for inspection at the Erath County Courthouse, 100 West Washington, Stephenville, TX 76401.
Limestone County, Texas, and Incorporated Areas
Salt River | Just upstream of State Highway 14 | None | +473 | Unincorporated Areas of Limestone County.
| Approximately 0.66 mile upstream of State Highway 14 | None | +483
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Limestone County
Maps are available for inspection at the Limestone County Courthouse, 200 West State Street, Groesbeck, TX 76642.

(Catalog of Federal Domestic Assistance No. 97.022, “Flood Insurance”)

Dated: May 11, 2010.
Sandra K. Knight,
Deputy Federal Insurance and Mitigation Administrator, Mitigation, Department of Homeland Security, Federal Emergency Management Agency.

[FR Doc. 2010-12490 Filed 5-24-10; 8:45 am]

BILLING CODE 9110-12-P